ARCHITECTURAL AND TRANSPORTATION BARRIERS COMPLIANCE BOARD

36 CFR Parts 1190 and 1191

[Docket No. 02-2]

RIN 3014-AA20

Americans With Disabilities Act (ADA) Accessibility Guidelines for Buildings and Facilities; Architectural Barriers Act (ABA) Accessibility Guidelines; Recreation Facilities

AGENCY: Architectural and Transportation Barriers Compliance Board.

ACTION: Supplemental notice of proposed rulemaking.

SUMMARY: The Architectural and Transportation Barriers Compliance Board (Access Board) has issued final rules to supplement the accessibility guidelines for buildings and facilities covered by the Americans With Disabilities Act by adding provisions for recreation facilities. The Access Board proposes to make the provisions in these final rules also apply to federally financed facilities covered by the Architectural Barriers Act. This action would make the accessibility guidelines for recreation facilities covered by these laws consistent and ensure that individuals with disabilities are provided the same level of access to recreation facilities operated by Federal agencies, as is provided by State and local governments and private entities.

DATES: Comments must be received by October 3, 2002.

ADDRESSES: Comments should be sent to the Office of Technical and Informational Services, Architectural and Transportation Barriers Compliance Board, 1331 F Street NW., suite 1000, Washington, DC 20004-1111. E-mail comments should be sent to greenwell@access-board.gov. Comments sent by e-mail will be considered only if they contain the full name and address of the sender in the text. Comments will be available for inspection at the above address from 9 a.m. to 5 p.m. on regular business days.

FOR FURTHER INFORMATION CONTACT: Peggy Greenwell, Office of Technical and Information Services, Architectural and Transportation Barriers Compliance Board, 1331 F Street, NW., suite 1000, Washington DC 20004-1111. Telephone number (202) 272-0017 (voice); (202) 272-0082 (TTY). Electronic mail address: greenwell@access-board.gov.

SUPPLEMENTARY INFORMATION: In 1999, the Access Board issued a notice of proposed rulemaking to revise and update the accessibility guidelines for buildings and facilities covered by the Americans with Disabilities Act (ADA) and the Architectural Barriers Act (ABA). 64 FR 62248 (November 16,1999). One of the purposes of the rulemaking is to make the ADA and ABA accessibility guidelines more consistent. The Access Board plans to issue a final rule to revise and update the ADA and ABA accessibility guidelines later this year.

The Access Board conducted separate rulemakings to supplement the ADA accessibility guidelines by adding provisions for play areas and other recreation facilities. A final rule adding provisions for play areas was issued in 2000. 65 FR 62498 (October 18, 2000).

A final rule adding provisions for other recreation facilities, including amusement rides, boating facilities, fishing piers and platforms, golf courses and driving ranges, miniature golf, exercise equipment, bowling lanes, shooting facilities, swimming pools, wading pools, and spas, is issued elsewhere in today's Federal Register. The final rule issued in today's Federal Register also reprints the provisions for play areas that were issued in 2000. The Access Board will incorporate the provisions for play areas and the other recreation facilities in the final rule to revise and update the ADA and ABA accessibility guidelines when it is issued later this year.

When the notice of proposed rulemaking for the other recreation facilities was issued, the notice stated that the Access Board would take action in the future to make the provisions applicable to federally financed facilities covered by the ABA, and encouraged Federal agencies and other interested persons to comment on the provisions as they relate to those facilities. 64 FR 37327 (July 9, 1999). Federal agencies commented on the notice. Although the notice of proposed rulemaking for play areas did not refer to federally financed facilities covered by the ABA, Federal agencies which operate child care centers and schools that may construct or alter play areas are members of the Access Board and participated in the rulemaking. 63 FR 24080 (April 30, 1998).

The purpose of this notice is to inform the public that the Access Board proposes to make the provisions in the final rules for play areas and other recreation facilities apply to federally financed facilities covered by the ABA. As indicted above, the provisions for play areas and other recreation facilities will be incorporated in the final rule to revise and update the ADA and ABA guidelines when issued later this year.

This final rules for play areas and other recreation facilities are significant regulatory actions under Executive Order 12866 and have been reviewed by the Office of Management and Budget. The Access Board assessed the benefits and costs of the final rules. The assessments have been placed in the public docket and are available for inspection. The assessments are also available on the Board's Internet site (http://www.access-board.gov).

This action will affect Federal agencies which operate child care centers and schools that may construct or alter play areas, and Federal agencies that construct or alter other recreation facilities covered by the final rules. To the extent data was available on play areas and other recreation facilities constructed or altered by Federal agencies, it was included in the assessments.

The Access Board prepared initial and final regulatory flexibility analyses for the proposed and final rules for play areas and other recreation facilities. As indicated above, this action will affect Federal agencies and does not require the preparation of any additional analyses under the Regulatory Flexibility Act.

Thurman M. Davis, Sr.,
Chair, Architectural and Transportation Barriers Compliance Board.

[FR Doc. 02-21806 Filed 8-30-02; 8:45 am]

BILLING CODE 8150-01-P